DEPARTMENT OF ENERGY

Federal Energy Regulatory Commission

[Project No. 15337-001]

Lock 47 Hydro, LLC; Notice of Intent To File License Application, Filing of Pre-Application Document, and Approving Use of the Traditional Licensing Process

a. Type of Filing: Notice of Intent to File License Application and Request to Use the Traditional Licensing Process (TLP).

b. Project No.: 15337-001.

c. Date Filed: July 19, 2024.

d. Submitted By: Lock 47 Hydro, LLC.

e. Name of Project: Chain Dam Hydroelectric Project.

f. Location: On the Lehigh River, in Palmer Township, and the City of Easton Pennsylvania, both located in Northampton County. The project does not occupy any federal land.

g. Filed Pursuant to: 18 CFR 5.3 of the Commission's regulations.

h. Potential Applicant Contact: Michael Kerr, Lock 47 Hydro, LLC, 100 Cummings Center, Suite 451C, Beverly, MA 01915; (978) 360-2547; email—michael@nehydropower.com.

i. FERC Contact: Silvia Pineda-Munoz at (202) 502-8388; or email at silvia.pineda-munoz@ferc.gov.

j. Lock 47 Hydro, LLC filed its request to use the Traditional Licensing Process on July 19, 2024, and provided public notice of its request on July 25, 2024, and August 1, 2024. In a letter dated September 12, 2024, the Director of the Division of Hydropower Licensing approved 47 Hydro, LLC's request to use the Traditional Licensing Process.

k. With this notice, we are initiating informal consultation with the U.S. Fish and Wildlife Service under section 7 of the Endangered Species Act and the joint agency regulations thereunder at 50 CFR part 402; and NOAA Fisheries under section 305(b) of the Magnuson-Stevens Fishery Conservation and Management Act and implementing regulations at 50 CFR 600.920. We are also initiating consultation with the Pennsylvania State Historic Preservation Officer, as required by section 106, National Historic Preservation Act, and the implementing regulations of the Advisory Council on Historic Preservation at 36 CFR 800.2.

l. With this notice, we are designating Lock 47 Hydro, LLC as the Commission's non-federal representative for carrying out informal consultation pursuant to section 7 of the Endangered Species Act and section 305(b) of the Magnuson-Stevens Fishery Conservation and Management Act; and consultation pursuant to section 106 of the National Historic Preservation Act.

m. Lock 47 Hydro, LLC filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field, to access the document. For assistance, contact FERC Online Support at FERCOnlineSupport@ferc.gov, (866) 208-3676 (toll free), or (202) 502-8659 (TTY).

You may register online at https://ferconline.ferc.gov/FERCOnline.aspx to be notified via email of new filings and issuances related to this or other pending projects. For assistance, contact FERC Online Support.

o. The applicant states its unequivocal intent to submit an application for an original license for Project No. 15337.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: September 12, 2024.
Debbie-Anne A. Reese,
Acting Secretary.

[FR Doc. 2024-21296 Filed 9-18-24; 8:45 am]

BILLING CODE 6717-01-P